DEPARTMENT OF ENERGY

Federal Energy Regulatory Commission

[Docket No. CP19-191-000]

Texas Eastern Transmission, L.P.; Notice of Schedule for Environmental Review of the Bernville Compressor Units Replacement Project

On April 18, 2019, Texas Eastern Transmission, L.P. (Texas Eastern) filed an application in Docket No. CP19-191-000 requesting a Certificate of Public Convenience and Necessity pursuant to Sections 7(b) and 7(c) of the Natural Gas Act to abandon, construct, and operate certain natural gas pipeline facilities at its existing Bernville Compressor Station in Berks County, Pennsylvania. The proposed project is known as the Bernville Compressor Units Replacement Project (Project).

On April 30, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA | September 30, 2019.
90-day Federal Authorization Decision Deadline | December 29, 2019.

If a schedule change becomes necessary, additional notice will be provided so that the relevant agencies are kept informed of the Project's progress.

Project Description

Texas Eastern proposes to replace two existing compressor units (one 22,000 horsepower [hp] and one 19,800 hp unit) with two new compressor units (one 26,000 hp and one 18,100 hp unit). Texas Eastern would install software controls to limit the total horsepower of the 26,000 hp compressor unit to 23,700 hp. Therefore, no additional compression would occur as a result of this Project. The replacement activities would require the use of additional temporary workspace beyond the existing facility boundary.

Background

On June 7, 2019 the Commission issued a Notice of Intent to Prepare an Environmental Assessment for the Proposed Bernville Compressor Unit Replacement Project and Request for Comments on Environmental Issues (NOI). The NOI was sent to affected landowners; federal, state, and local government agencies; elected officials; environmental and public interest groups; Native American tribes; other interested parties; and local libraries and newspapers. Comments on the NOI should be received by the Commission in Washington, DC on or before 5:00 p.m. Eastern Time on July 8, 2019. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP19-191), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 17, 2019.
Nathaniel J. Davis, Sr.,
Deputy Secretary.

[FR Doc. 2019-13237 Filed 6-20-19; 8:45 am]

BILLING CODE 6717-01-P